DEPARTMENT OF COMMERCE

National Oceanic and Atmospheric Administration

50 CFR Part 622

[Docket No. 140501394-5279-02; RTID 0648-XB887]

Fisheries of the Caribbean, Gulf of Mexico, and South Atlantic; 2022 Recreational Accountability Measure and Closure for Blueline Tilefish in the South Atlantic Region

AGENCY: National Marine Fisheries Service (NMFS), National Oceanic and Atmospheric Administration (NOAA), Commerce.

ACTION: Temporary rule; closure.

SUMMARY: NMFS implements accountability measures (AMs) for recreational blueline tilefish in the exclusive economic zone (EEZ) of the South Atlantic. NMFS has determined that recreational landings for blueline tilefish will reach the recreational annual catch limit (ACL) by July 26, 2022. Therefore, NMFS will close the recreational sector for blueline tilefish in the South Atlantic EEZ at 12:01 a.m., local time, July 26, 2022, and it will remain closed until the 2023 recreational fishing season begins on May 1, 2023. This closure is necessary to protect the blueline tilefish resource.

DATES: This rule is effective 12:01 a.m., local time, July 26, 2022, until 12:01 a.m., local time, January 1, 2023.

FOR FURTHER INFORMATION CONTACT: Mary Vara, NMFS Southeast Region, telephone: 727-824-5305, email: mary.vara@noaa.gov.

SUPPLEMENTARY INFORMATION: The snapper-grouper fishery of the South Atlantic includes blueline tilefish and is managed under the Fishery Management Plan for the Snapper-Grouper Fishery of the South Atlantic Region (FMP). The FMP was prepared by the South Atlantic Fishery Management Council and is implemented by NMFS under the authority of the Magnuson-Stevens Fishery Conservation and Management Act (Magnuson-Stevens Act) by regulations at 50 CFR part 622.

NMFS implemented management measures for blueline tilefish in Amendment 32 to the FMP (Amendment 32) (80 FR 16583; March 30, 2015), including current recreational AMs. Abbreviated Framework 3 to the FMP, which was implemented in August 2020 (85 FR 43145; July 16, 2020), set the recreational ACL for blueline tilefish at 116,820 lb, (52,989 kg), round weight. Under 50 CFR 622.193(z)(2)(i), NMFS is required to close the recreational sector for blueline tilefish when the recreational ACL is reached, or is projected to be reached, by filing a notification to that effect with the Office of the Federal Register.

NMFS has determined that recreational landings for South Atlantic blueline tilefish will reach the recreational ACL by July 26, 2022. Accordingly, the recreational sector for South Atlantic blueline tilefish will close effective at 12:01 a.m., local time, July 26, 2022, until 12:01 a.m., local time, January 1, 2023, the start of the next fishing year. However, as described in 50 CFR 622.183(b)(7), the recreational sector for blueline tilefish is also closed from January 1 through April 30, and September 1 through December 31, each year. Therefore, after the effective date of the closure on July 26, 2022, the recreational sector may not harvest blueline tilefish in the South Atlantic EEZ until May 1, 2023.

During the closure, the bag and possession limits for blueline tilefish in or from the South Atlantic EEZ are zero.

Classification

NMFS issues this action pursuant to section 305(d) of the Magnuson-Stevens Act. This action is required by 50 CFR 622.193(z)(2)(i), issued pursuant to section 304(b), and is exempt from review under Executive Order 12866.

Pursuant to 5 U.S.C. 553(b)(B), there is good cause to waive prior notice and an opportunity for public comment on this action, as notice and comment is unnecessary and contrary to the public interest. Such procedures are unnecessary because the regulations associated with the closure of the blueline tilefish recreational sector have already been subject to notice and public comment, and all that remains is to notify the public of the date of the recreational closure. Prior notice and opportunity for public comment on this action is contrary to the public interest because of the need to protect the South Atlantic blueline tilefish resource. Additionally, providing as much advance notice to the public of this closure allows charter vessel and headboat businesses that fish for blueline tilefish to prepare for the rest of the fishing season and to schedule or reschedule trips for their clients and to maximize opportunities for their business revenues and profits.

Authority: 16 U.S.C. 1801 et seq.

Dated: March 25, 2022.
Ngagne Jafnar Gueye,
Acting Director, Office of Sustainable Fisheries, National Marine Fisheries Service.

[FR Doc. 2022-06712 Filed 3-28-22; 8:45 am]

BILLING CODE 3510-22-P